FEDERAL MARITIME COMMISSION

Sunshine Act Meetings

TIME AND DATE: May 29, 2024; 1:00 p.m.

PLACE: The meeting will be held at the Surface Transportation Board at the address below and also streamed live on the Federal Maritime Commission's YouTube channel.

Surface Transportation Board, 395 E. Street SW, Room #1042 (Hearing Room), Washington, DC 20423

STATUS: Parts of this meeting will be open to the public. The rest of the meeting will be closed to the public. The meeting will be held on May 29, 2024, beginning at 1:00 p.m. in the Hearing Room of the Surface Transportation Board and the public portion of the meeting will be streamed live on the Federal Maritime Commission's YouTube channel. Any person wishing to attend the public portion of the meeting in-person should report to Surface Transportation Board with enough time to clear building security procedures. If technical issues prevent the Commission from streaming live, the Commission will post a recording of the public portion of the meeting on the Commission's YouTube channel following the meeting.

MATTERS TO BE CONSIDERED:

PORTIONS OPEN TO THE PUBLIC:

1. Staff Update on Bureau of Certification and Licensing Programs (Ocean Transportation Intermediary & Passenger Vessel Operator)

2. Staff Update on Vessel-Operating Common Carrier Audit Program

PORTIONS CLOSED TO THE PUBLIC:

1. Staff Update on Vessel-Operating Common Carrier Audit Program

CONTACT PERSON FOR MORE INFORMATION: David Eng, Secretary, (202) 523-5725.

David Eng,
Secretary, Federal Maritime Commission.

[FR Doc. 2024-11182 Filed 5-17-24; 11:15 am]

BILLING CODE 6730-02-P